DEPARTMENT OF TRANSPORTATION

Federal Aviation Administration

RTCA Program Management Committee

AGENCY: Federal Aviation Administration (FAA), DOT.

ACTION: Notice of RTCA Program Management Committee meeting.

SUMMARY: The FAA is issuing this notice to advise the public of a meeting of the RTCA Program Management Committee.

DATES: The meeting will be held September 15, 2010 from 8:30 a.m. to 1:30 p.m.

ADDRESSES: The meeting will be held at RTCA, Inc., 1828 L Street, NW., Suite 805, Washington, DC 20036.

FOR FURTHER INFORMATION CONTACT: RTCA Secretariat, 1828 L Street, NW., Suite 850, Washington, DC 20036; telephone (202) 833-9339; fax (202) 833-9434; Web site http://www.rtca.org.

SUPPLEMENTARY INFORMATION: Pursuant to section 10(a) (2) of the Federal Advisory Committee Act (Pub. L. 92-463, 5 U.S.C., Appendix 2), notice is hereby given for a RTCA Program Management Committee meeting. The agenda will include:

• Opening Plenary (Welcome and Introductions).

• Review/Approve Summary of June 10, 2010 PMC meeting, RTCA Paper No. 136-10/PMC-803.

• Publication Consideration/Approval.

• Final Draft, Revised DO-315, Minimum Aviation System Performance Standards (MASPS) for Enhanced Vision Systems, Synthetic Vision Systems, Combined Vision Systems and Enhanced Flight Vision Systems, RTCA Paper No. 142-10/PMC-805, prepared by SC-213.

• Integration And Coordination Committee (ICC)—Report.

• ICC Review of RTCA Weather Information Data-Link Related Activities—Further Recommendations.

• SC-206—Aeronautical Information Services (AIS) Data Link—Discussion—Recommendation—Revised Terms of Reference.

• Action Item Review.

• SC-186—Automatic Dependent Surveillance—Broadcast—Review/Approve Revised Terms of Reference.

• FAA Update on Airborne SWIM.

• Discussion.

• SC-213—Enhanced Flight Vision Systems/Synthetic Vision Systems, (EFVS/SVS)—Discussion—Revised Terms of Reference.

• SC-216—Aeronautical Systems Security—Status and Briefing on Future Activities and Revised Terms of Reference.

• SC-186/WG-51 Ad Hoc on ADS-B Application Standards Flow and the Role of Safety and Performance Requirements (SPRs).

• Airport Security Access Control Systems—Discussion—Possible New Special Committee.

• Trajectory Operations—Discussion—Status.

• NextGen Advisory Committee—Discussion—Status.

• Special Committees—Chairmen's Reports.

• Closing Plenary (Other Business, Document Production and PMC Meeting Schedule Meeting, Adjourned).

Attendance is open to the interested public but limited to space availability. With the approval of the chairman, members of the public may present oral statements at the meeting. Persons wishing to present statements or obtain information should contact the person listed in the FOR FURTHER INFORMATION CONTACT section.

Members of the public may present a written statement to the committee at any time.

Issued in Washington, DC, on August 18, 2010.
Robert L. Bostiga,
RTCA Advisory Committee.

[FR Doc. 2010-21213 Filed 8-25-10; 8:45 am]

BILLING CODE 4910-13-P